ELECTION ASSISTANCE COMMISSION

Sunshine Act Meeting

AGENCY: United States Election Assistance Commission.

ACTION: Notice of public meeting (amended).

DATE AND TIME: Wednesday, February 23, 2005, 10 a.m.-11:30 a.m.

PLACE: Michael E. Moritz College of Law, The Ohio State University, 55 W. 12th Ave., Saxbe Auditorium, Columbus, OH 43210-1391.

AGENDA: The Commission will receive reports on the following: Updates on Title II Requirements Payments and other administrative or programmatic matters. The Commission will receive presentations on the following: Transition of the Voting System Qualification Process to EAC and the Transition of The Lab Accreditation Process to NIST and EAC.

PERSON TO CONTACT FOR INFORMATION: Bryan Whitener, telephone: (202) 566-3100.

Gracia M. Hillman,
Chair, U.S. Election Assistance Commission.

[FR Doc. 05-3089 Filed 2-14-05; 1:46 pm]

BILLING CODE 6820-YN-M